NEIGHBORHOOD REINVESTMENT CORPORATION

Sunshine Act Meetings

TIME AND DATE: 2:00 p.m., Thursday, June 16, 2022.

PLACE: Via conference call.

STATUS: Parts of this meeting will be open to the public. The rest of the meeting will be closed to the public.

MATTERS TO BE CONSIDERED: Annual Board of Directors meeting.

The General Counsel of the Corporation has certified that in his opinion, one or more of the exemptions set forth in the Government in the Sunshine Act, 5 U.S.C. 552b (c)(2) and (4) permit closure of the following portion(s) of this meeting:

• Executive Session

Agenda

I. CALL TO ORDER

II. Sunshine Act Approval of Executive (Closed) Session

III. Executive Session Report from CEO

IV. Executive Session: Report from CFO

V. Executive Session: General Counsel Report

VI. Executive Session: NeighborWorks Compass ™ Update

VII. Executive Session: Officer Compensation Review

VIII. Action Item Board Appointments

IX. Action Item Management Elections

X. Action Item Approval of Minutes

XI. Action Item Grants to Capital Corporations

XII. Discussion Item Annual Ethics Review

XIII. Discussion Item DC Office Relocation Budget Update

XIV. Discussion Item Governance Operations Guide Annual Review

XV. Management Program Background and Updates

XVI. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-12281 Filed 6-2-22; 4:15 pm]

BILLING CODE 7570-02-P